DEPARTMENT OF STATE

[Public Notice 5324]

Renewal of the Charter of the United States International Telecommunication Advisory Committee

Summary: The Charter of the United States International Telecommunication Advisory Committee (ITAC) has been renewed for an additional two years.

ITAC is established under the general authority of the Secretary of State and the Department of State as set forth in Title 22, sections 2656 and 2707, of the United States Code. The purpose of the ITAC is to advise the Department of State with respect to, and provide strategic planning recommendations on, telecommunication and information policy matters related to the United States' participation in the work of the International Telecommunication Union, the Permanent Consultative Committees of the Organization of American States Inter-American Telecommunication Commission, the Organization for Economic Cooperation and Development, and other international bodies addressing telecommunications. ITAC provides advice on matters of U.S. policy and preparation of positions for meetings of international and regional organizations pertaining to telecommunication and information issues.

Anne D. Jillson,
Foreign Affairs Officer, International Communications and Information Policy, Department of State.

[FR Doc. E6-3976 Filed 3-17-06; 8:45 am]

BILLING CODE 4710-07-P